Title 3—

The President

Memorandum of December 5, 2003

Transfer of Funds Appropriated to the President under the heading Operating Expenses of the Coalition Provisional Authority, and Delegation of the Functions of the President under the heading Iraq Relief and Reconstruction Fund, in the Emergency Supplemental Appropriations Act for Defense and for the Reconstruction of Iraq and Afghanistan, 2004

Memorandum for the Secretary of State[,] the Secretary of Defense[, and] the Director of the Office of Management and Budget

By the authority vested in me by the Constitution and the laws of the United States of America, including section 632 of the Foreign Assistance Act of 1961, as amended (22 U.S.C. 2392), I hereby direct as follows:

1. The funds appropriated to the President under the heading Operating Expenses of the Coalition Provisional Authority in the Emergency Supplemental Appropriations Act for Defense and for the Reconstruction of Iraq and Afghanistan, 2004 (Public Law 108-106), or in any subsequent appropriation under this heading, are transferred to the Secretary of Defense, for an account designated Operating Expenses of the Coalition Provisional Authority, International Reconstruction and Other Assistance, Army.

2. The memorandum entitled, “Delegation of the Functions of the President under the heading Iraq Relief and Reconstruction Fund in the Emergency Wartime Supplemental Appropriations Act, 2003”, dated May 6, 2003, is amended by inserting “or in any subsequent appropriation under this heading,” after the phrase, “(Public Law 108 11),”. It is further amended by deleting all references to “the Office of Reconstruction and Humanitarian Assistance” or “ORHA,” and inserting in lieu thereof “the Coalition Provisional Authority” or “CPA,” respectively.

The Secretary of Defense is authorized and directed to publish this memorandum in the Federal Register.

B

THE WHITE HOUSE,

Washington, December 5, 2003.

[FR Doc. 04-597

Filed 1-8-04; 9:24 am]

Billing code 5001-06-P